SOCIAL SECURITY ADMINISTRATION

Agency Information Collection Activities: Comment Request

The Social Security Administration (SSA) publishes a list of information collection packages requiring clearance by the Office of Management and Budget (OMB) in compliance with Public Law (Pub. L.) 104-13, the Paperwork Reduction Act of 1995, effective October 1, 1995. This notice includes a new information collection for OMB approval.

SSA is soliciting comments on the accuracy of the agency's burden estimate; the need for the information; its practical utility; ways to enhance its quality, utility, and clarity; and ways to minimize burden on respondents, including the use of automated collection techniques or other forms of information technology. Mail, e-mail, or fax your comments and recommendations on the information collection to the OMB Desk Officer and SSA Reports Clearance Officer to the following addresses or fax numbers.

(OMB), Office of Management and Budget, Attn: Desk Officer for SSA. Fax: 202-395-6974. E-mail address: OIRA_Submission@omb.eop.gov.

(SSA), Social Security Administration, DCBFM, Attn: Reports Clearance Officer, 1333 Annex Building, 6401 Security Blvd., Baltimore, MD 21235. Fax: 410-965-6400. E-mail address: OPLM.RCO@ssa.gov.

SSA has submitted the information collection listed below to OMB for clearance. Your comments on the information collection would be most useful if OMB and SSA receive them within 30 days from the date of this publication. To be sure we consider your comments, we must receive them no later than November 22, 2010. You can obtain a copy of the OMB clearance package by calling the SSA Reports Clearance Officer at 410-965-8783 or by writing to the above e-mail address.

Benefit Offset National Demonstration—0960-NEW. SSA is undertaking the Benefit Offset National Demonstration (BOND)—a demonstration and evaluation of policy changes and services on the Social Security Disability Insurance (SSDI) program—in an effort to produce strong evidence about the effectiveness of potential solutions that would improve the historically very low rate of return to work among SSDI beneficiaries. Under current law, Social Security beneficiaries lose their SSDI benefit if they have earnings and/or work activity above the threshold of Substantial Gainful Activity after completing the Trial Work Period and two-month grace period. The benefit-offset component of this demonstration will reduce benefits by $1 for each $2 in earnings above the BOND threshold, resulting in a gradual reduction in benefits as earnings increase.

The experimental design for BOND will test a benefit offset alone and in conjunction with enhanced work incentives counseling. The central research questions include:

• What is the effect of the benefit offset alone on employment and other outcomes?

• What is the effect of the benefit offset in combination with enhanced work incentives counseling on employment and other outcomes?

The proposed public survey data collections will have four components—an impact study, a cost-benefit analysis, a participation analysis, and a process study. The data collections are a primary source for data to measure the effects of a more generous benefit offset and the provision of enhanced work incentives counseling on SSDI beneficiaries' work efforts and earnings. Ultimately, these data will benefit researchers, policy analysts, policy makers and the United States Congress in a wide range of program areas. The effects of BOND on the well-being of SSDI beneficiaries could manifest themselves in many dimensions and could be relevant to an array of other public programs. This project offers the first opportunity to obtain reliable measures of these effects based upon a nationally representative sample. The long-term indirect benefits of this research are therefore likely to be substantial. Respondents are SSDI beneficiaries and concurrent SSDI and Supplemental Security Income beneficiaries who we randomly assign to the study (Stage 1), and SSDI beneficiaries who agree to participate in the study (Stage 2).

Type of Request: Request for a new information collection.

Note: This is a correction notice. We updated the burden figures, shown below, since we published the 60-day Federal Register Notice for this collection on August 12, 2010 at 75 FR 49013.

Survey | Number of respondents | Frequency of response | Number of responses | Average burden per response (minutes) | Total annual burden (hours)
Participation Agreement | 12,600 | 1 | 12,600 | 20 | 4,200
Baseline Survey | 12,600 | 1 | 12,600 | 41 | 8,610
Interim Survey | 10,080 | 1 | 10,080 | 29 | 4,872
Stage 1 36-month Survey | 8,000 | 1 | 8,000 | 49 | 6,533
Stage 2 36-month Survey | 10,080 | 1 | 10,080 | 60 | 10,080
Enhanced Work Incentives Assessment | 3,000 | 1 | 3,000 | 35 | 1,750
Key Informant Interviews | 100 | 7 | 700 | 60 | 700
Stage 2 Participant Focus Groups | 600 | 1 | 600 | 90 | 900
Totals | 57,060 |  | 57,660 |  | 37,645

Dated: October 15, 2010.
Faye Lipsky,
Reports Clearance Officer, Center for Reports Clearance, Social Security Administration.

[FR Doc. 2010-26384 Filed 10-20-10; 8:45 am]

BILLING CODE 4191-02-P